DEPARTMENT OF COMMERCE

Submission for OMB Review; Comment Request

The Department of Commerce will submit to the Office of Management and Budget (OMB) for clearance the following proposal for collection of information under the provisions of the Paperwork Reduction Act (44 U.S.C. Chapter 35).

AGENCY: National Oceanic and Atmospheric Administration (NOAA).

Title: Licensing of Private Remote-Sensing Space Systems.

Form Number(s): None.

OMB Approval Number: 0648-0174.

Type of Request: Regular submission.

Burden Hours: 552.

Number of Respondents: 18.

Average Hours Per Response: License application, 40 hours; executive summary, 2 hours; data protection plan, 10 hours; submission of data collection restriction plan, 5 hours; submission of operational plans for restricting collection or dissemination of Israeli territory, 3 hours; submission of data flow diagrams, 3 hours; submission of satellite subsystem drawings, 2 hours; submission of final imaging system specifications, 3 hours; notification of disposition/orbital debris change, 2 hours; license amendment, 10 hours; foreign agreements notification (including investments), 2 hours; submission of preliminary design review, 2 hours; submission of critical design review, 2 hours; notification of binding launch service contract, 1 hour; notification of completion of pre-ship review, 1 hour; submission of information when spacecraft becomes operational, 2 hours; notification of the demise of a system or decision to discontinue system operations, 2 hours; notification of any operational deviation, 2 hours; notification for planned purges of information, 2 hours; operational quarterly reports, 3 hours; annual compliance audit, 8 hours; annual operational audit, 10 hours.

Needs and Uses: The information is being collected in order to issue licenses and related amendments to operate space-based private remote-sensing systems, to review foreign agreements entered into by licensees, and to perform monitoring and compliance functions for licensed systems. The National Oceanic and Atmospheric Administration (NOAA) has issued regulations for its licensing program under Title II of the Land Remote-Sensing Policy Act of 1992, 15 U.S.C. 5601 et seq. (1992 Act), the 1997 National Defense Authorization Act section 1064, and the Commercial Space Act of 1998, 42 U.S.C. 70101 et seq. They facilitate the development of the U.S. commercial remote-sensing industry and thus promote the collection and widespread availability of Earth remote-sensing data while preserving essential U.S. national security and foreign policy interests. The amendment to the previous version of the regulations reflected improvements that take into account public comments received on the regulations. The amended regulations now allows NOAA to more effectively license Earth remote-sensing space systems and help to ensure their compliance with the requirements of the Act. The final regulations were published in the Federal Register on April 25, 2006.

Affected Public: Business or other for-profit.

Frequency: On occasion, quarterly and annually.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: May 16, 2007.
Gwellnar Banks,
Management Analyst, Office of the Chief Information Officer.

[FR Doc. E7-9770 Filed 5-21-07; 8:45 am]

BILLING CODE 3510-22-P